DEPARTMENT OF HEALTH AND HUMAN SERVICES

Health Resources and Services Administration

Maternal and Child Health Federal Set-Aside Program; Special Projects of Regional and National Significance; Oral Health Program

AGENCY: Health Resources and Services Administration, HHS.

ACTION: Notice of availability of funds.

SUMMARY: The Health Resources and Services Administration (HRSA) announces that approximately $350,000 in fiscal year (FY) 2002 funds is available to fund one competitive grant to establish a new National Maternal and Child Oral Health Resource Center (NMCOHRC). This new center is intended to continue, in part, activities carried out by an earlier oral health resource center funded by the Maternal and Child Health Bureau (MCHB). The purpose of the NMCOHRC is to collect maternal and child oral health information and materials that are not readily available elsewhere, and make them available to the public for easy reference and retrieval in a variety of print and media formats. Eligibility is open to any public or private entity, including an Indian tribe or tribal organization (as defined at 25 U.S.C. 450b). The award will be made under the program authority of section 501(a)(2) of the Social Security Act, the Maternal and Child Health (MCH) Federal Set-Aside Program (42 U.S.C. 701(a)(2)). Funds for this award were appropriated under Public Law 107-116. The award will be made for a project period of up to five years. Funding beyond the first year is subject to grantee performance and the availability of funds.

DATES: Applicants for this program are requested to notify MCHB of their intent by May 10, 2002. Notification of intent to apply can be made in one of three ways: telephone: 301-443-3449; email: mnehring@hrsa.gov or; mail: MCHB/HRSA; Division for Child, Adolescent and Family Health; Oral Health Program; Parklawn Building, Room 18A-39; 5600 Fishers Lane; Rockville, MD 20857. The deadline for receipt of applications is June 14, 2002. Applications will be considered “on time” if they are either received at the Grants Application Center on or before the deadline date or postmarked on or before the deadline date. The projected award date is September 1, 2002.

ADDRESSES: To receive a complete application kit, applicants may telephone the HRSA Grants Application Center at 1-877-477-2123 (1-877-HRSA-123) beginning April 29, 2002, or register on-line at: http://www.hrsa.gov/, or by accessing http://www.hrsa.gov/g_order3.htm directly. This program uses the standard Form PHS 5161-1 (rev. 7/00) for applications (approved under OMB No. 0920-0428). Applicants must use the appropriate Catalog of Federal Domestic Assistance (CFDA) number 93.110AD when requesting application materials. The CFDA is a Government wide compendium of enumerated Federal programs, projects, services, and activities that provide assistance. All applications should be mailed or delivered to: Grants Management Officer (MCHB), HRSA Grants Application Center, 901 Russell Avenue, Suite 450, Gaithersburg, MD 20879, telephone: 1-877-HRSA-123 (477-2123), e-mail: hrsagac@hrsa.gov.

This application guidance and the required form for the Oral Health Program may also be downloaded in either WordPerfect 6.1 or Adobe Acrobat format (.pdf) from the MCHB Homepage at http://www.mchb.hrsa.gov/. Please contact Joni Johns at 301-443-2088 or jjohns@hrsa.gov, if you need technical assistance in accessing the MCHB Home Page via the Internet.

This announcement will appear on the HRSA Home Page at: http://www.hrsa.gov/. Federal Register notices are found by following instructions at: http://www.access.gpo.gov/su_docs/aces/aces140.html.

FOR FURTHER INFORMATION CONTACT: Mark E. Nehring D.M.D., M.P.H., 301-443-3449, e-mail: mnehring@hrsa.gov (for questions specific to project activities of the program, program objectives, or the Letter of Intent described above); and Mona Thompson, 301/443-3429; e-mail, mthompson@hrsa.gov (for grants policy, budgetary, and business questions).

SUPPLEMENTARY INFORMATION:

Program Background and Objectives

Oral health means more than just healthy teeth. In addition to dental caries and periodontal disease, oral diseases include oral and pharyngeal cancers, soft tissue lesions, birth defects such as cleft lip and palate, and other disfiguring or painful conditions that require professional treatment. Recent research also suggests that oral diseases may be associated with heart and lung disease, stroke, low birth weight, and prematurity.

Despite considerable progress made over the last 50 years, oral diseases remain common in the U.S. Furthermore, the burden of oral disease is not uniformly distributed in the population. Minorities, lower income individuals, and those who are uninsured are disproportionately more likely to suffer from untreated oral disease. Untreated oral disease can affect economic productivity and compromise the ability to work. Pain and suffering due to untreated oral disease can also lead to problems eating, speaking, and learning.

At a workshop on oral health of mothers and children sponsored by the Maternal and Child Health Bureau (MCHB) in September 1989, participants urged MCHB to play a greater leadership role in addressing the oral health needs of children and their families, and serve as the national leader for the transfer of information regarding children's oral needs and services between State MCH programs, communities, academia and the Nation in general.

In particular, concerns were expressed that resource and information centers focusing on oral health were very limited in scope and number, and none were focused on the oral health of infants, children, adolescents and their families. There were also concerns that information and materials produced by oral health programs were not being collected in a central location for easy reference and retrieval, and were not widely available to help States, communities, MCH programs and professionals serving children to develop, implement, and evaluate programs and services.

MCHB responded by funding an Oral Health Resource Center (OHRC) in 1996 to begin to address these concerns. The objectives of the OHRC were to: serve as a national resource focusing on improving the oral health status of infants, children, adolescents, and their families; collect information on oral health programs and materials produced by oral health programs (materials not readily available elsewhere) for easy reference and retrieval; research and produce oral health educational materials in print and electronic format; and widely disseminate information and materials in print and electronic format.

The new NMCOHRC is intended to continue this work, and to assist States and communities by increasing awareness of oral health disparities that exist within States and our nation as a whole, and to help them develop programs to address disparities and reduce access barriers to oral health services for women and children.

Authorization

Section 501(a)(2) of the Social Security Act, 42 U.S.C. 701(a)(2).

Purpose

The purpose of the National Maternal and Child Oral Health Resource Center is to serve the public through: Identification and collection of information about oral health programs and initiatives; and provision of gathered information and materials to health professionals, policy makers, consumers, and others to assist them in improving oral health services for children, adolescents and their families. To this end, it will be necessary for the center to provide information and educational resource services.

Grantee activities are expected to include: Collecting and disseminating oral health program materials through print and electronic media, providing technical assistance to States and to other organizations, collaborating with other HRSA/MCHB-supported oral health grantees and oral health organizations, facilitating communication among oral health officials and consultants, and raising awareness of oral health services provided by other grantees to States, communities and the public in general.

Eligibility

Under SPRANS project grant regulations at 42 CFR 51a.3, any public or private entity, including an Indian tribe or tribal organization (as defined at 25 U.S.C. 450(b)), is eligible to apply for grants and cooperative agreements covered by this announcement. Under the President's initiative, faith-based organizations that are otherwise eligible and believe they can contribute to HRSA's program objectives are urged to consider this initiative.

Funding Level/Project Period

The project will be approved for a project period of up to five years. Up to $350,000 in fiscal year (FY) 2002 funds will be used to fund the first year of this grant. Funding after the initial year is contingent on performance and the availability of funds.

Review Criteria

Applications that are complete and responsive to the guidance will be evaluated by an objective review panel specifically convened for this solicitation and in accordance with HRSA grants management policies and procedures.

Grant applications will be reviewed using the following criteria:

1. Estimated costs to the Government of the project are reasonable considering the level and complexity of activity and the anticipated results;

2. Project personnel or prospective fellows are well qualified by training and/or experience for the support sought, and the applicant organization has adequate facilities and manpower;

3. In so far as practical, the proposed activities (scientific or other), if well executed, are capable of attaining project objectives;

4. Project objectives are capable of achieving the specific program objectives defined in the program announcement and the proposed results are measurable;

5. The method for evaluating proposed results includes criteria for determining the extent to which the program has achieved its stated objectives and the extent to which the accomplishment of objectives can be attributed to the program;

6. In so far as practical, the proposed activities, when accomplished, include plans for broad dissemination.

Additional criteria may be used to review and rank applications for this competition. Any such criteria will be identified in the program guidance included in the application kit. Applicants should pay strict attention to addressing these criteria, in addition to those referenced above. Also, to the extent that regulatory review criteria generally applicable to all Title V programs (at 42 CFR 51a) are relevant to this specific project, such factors will be taken into account.

Executive Order 12372

The MCH Federal Set-Aside program has been determined to be a program which is not subject to the provisions of Executive Order 12372 concerning intergovernmental review of Federal programs.

Dated: April 19, 2002.
Elizabeth M. Duke,
Administrator.

[FR Doc. 02-10428 Filed 4-26-02; 8:45 am]

BILLING CODE 4165-15-P